THE NATIONAL FOUNDATION FOR THE ARTS AND THE HUMANITIES

Notice of Proposed Information Collection: Public Libraries Survey, 2008-2010

AGENCY: Institute of Museum and Library Services.

SUMMARY: The Institute of Museum and Library Service (IMLS) as part of its continuing effort to reduce paperwork and respondent burden, conducts a pre-clearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the continuance of the Public Libraries Survey for Fiscal Years 2008-2010.

A copy of the proposed information collection request can be obtained by contacting the individual listed below in the ADDRESSES section of this notice.

DATES: Written comments must be submitted to the office listed in the ADDRESSES section below on or before April 6, 2007. IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to Barbara G. Smith, E-Projects Officer, Office of Information Resources Management, Institute of Museum and Library Services, 1800 M Street NW., 9th Floor, Washington, DC 20036. Ms. Smith can be reached by Telephone: 202-653-4688, Fax: 202-653-4625, or by e-mail at bsmith@imls.gov.

SUPPLEMENTARY INFORMATION: The Institute of Museum and Library Services is an independent Federal grant-making agency authorized by the Museum and Library Services Act, 20 U.S.C. 9101, et seq. Section 210 of the Act supports IMLS' data collection and analysis role. The IMLS provides a variety of grant programs to assist the nation's museums and libraries in improving their operations and enhancing their services to the public. Museums and libraries of all sizes and types may receive support from IMLS programs.

The Public Libraries Survey, conducted by the U.S. Dept. of Education, has OMB clearance number 1850-0689; it expires 7/31/2008.

Plans are underway for transfer of the Public Libraries Survey from the Dept. of Education to the Institute of Museum and Library Services beginning with Fiscal Year 2008. The responsibility for this data collection, and for the clearance process, will be transferred entirely to IMLS.

Abstract: Mandated under PL 107-279, this survey collects annual descriptive data on the universe of public libraries in the U.S. and the Outlying Areas. Information such as public service hours per year, circulation of library books, etc., number of librarians, population of legal service area, expenditures for library collection, staff salary data, and access to technology are collected. Data are collected from each public library and are coordinated at the state level by a state data coordinator.

OMB Number: n/a.

Agency Number: 3137.

Affected Public: Federal, State and local governments, State library agencies, libraries, general public.

Number of Respondents: 55.

Frequency: Annually.

Burden hours per respondent: 56. Total burden hours: 3080.

Contact: Barbara G. Smith, E-Projects Officer, Office of Information Resources Management, Institute of Museum and Library Services, 1800 M Street NW., 9th Floor, Washington, DC 20036. Ms. Smith can be reached by Telephone: 202-653-4688, Fax: 202-653-4625, or by e-mail at bsmith@imls.gov.

Barbara G. Smith,
E-Projects Officer.

[FR Doc. E7-1765 Filed 2-2-07; 8:45 am]

BILLING CODE 7036-01-P